DEPARTMENT OF STATE

[Public Notice 11384]

30-Day Notice of Proposed Information Collection: Advance Notification; Form: Tourist and Other Non-Governmental Activities in the Antarctic Treaty Area

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to May 10, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to William Muntean, Senior Advisor for Antarctica, Office of Ocean and Polar Affairs, Room 2665, Bureau of Oceans and International Environmental and Scientific Affairs, U.S. Department of State, 2201 C Street NW, Washington, DC 20520 or Antarctica@state.gov.

SUPPLEMENTARY INFORMATION:

• Title of Information Collection: ADVANCE NOTIFICATION FORM: Tourist and Other Non-Governmental Activities in the Antarctic Treaty Area.

• OMB Control Number: 1405-0181.

• Type of Request: Revision of a Currently Approved Collection.

• Originating Office: Bureau of Oceans and International Environmental and Scientific Affairs (OES/OPA).

• Form Number: DS-4131.

• Respondents: Operators of Antarctic expeditions organized in or proceeding from the United States.

• Estimated Number of Respondents: 25.

• Estimated Number of Responses: 25.

• Average Time per Response: 9 hours.

• Total Estimated Burden Time: 225 hours.

• Frequency: On occasion.

• Obligation to Respond: Required to comply with Article VII(5)(a) of the Antarctic Treaty and associated documents.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Information solicited on the Advance Notification Form (DS-4131) provides the U.S. Government with information on tourist and other non-governmental expeditions to the Antarctic Treaty area. The U.S. Government needs this information to comply with Article VII(5)(a) of the Antarctic Treaty and associated documents.

Methodology

The Form DS-4131 is available by download from the Department's website. The information will be submitted by U.S. organizers of tourist and other non-governmental expeditions to Antarctica by means of this form. The form should be submitted via email, although signed originals submitted by regular mail are also valid.

Kevin E. Bryant,
Deputy Director, Office of Directives of Management, Department of State.

[FR Doc. 2021-07259 Filed 4-7-21; 8:45 am]

BILLING CODE 4710-09-P